DEPARTMENT OF JUSTICE

Notice of Lodging of Consent Decree Under the Comprehensive Environmental Response, Compensation and Liability Act

Under 42 U.S.C. 9622(d)(2)(B) and 28 CFR 50.7, notice is hereby given that on July 3, 2007, a proposed consent decree in United States v. Rexmet Corporation, Civil Action No. 07-cv-2754, was lodged with the United States District Court for the Eastern District of Pennsylvania.

In this action the United States is seeking injunctive relief and recovery of response costs incurred by the United States pursuant to the Comprehensive Environmental Response, Compensation and Liability Act (“CERCLA”), 42 U.S.C. 9601 et seq., in connection with the J.W. Rex Facility (located at Valley Forge Road & 8th Street, Lansdale, PA 19446) at the North Penn Area Six Superfund Site (“Site”), which consists of a contaminated groundwater plume and a number of separate parcels of property located within and adjacent to the Borough of Lansdale, Montgomery County, Pennsylvania. The proposed consent decree will resolve the United States' claims against Rexmet Corporation (“Settling Defendant”) in connection with the Site. Under the terms of the proposed consent decree, Settling Defendant will (1) implement the EPA-selected groundwater remedy at the J.W. Rex Facility, and (2) pay the United States $250,000.00 plus interest (in two payments) in partial reimbursement of the United States' past response costs. Settling Defendant will receive a covenant not to sue by the United States with regard to the Site.

The Department of Justice will receive for a period of thirty (30) days from the date of this publication comments relating to the proposed consent decree. Comments should be addressed to the Assistant Attorney General, Environment and Natural Resources Division, and submitted either by email to pubcomment-ees.enrd@usdoj.gov or by U.S. mail to P.O. Box 7611, U.S. Department of Justice, Washington, DC 20044-7611. Comments should reference United States v. Rexmet Corporation, D.J. Ref. 90-11-2-06024/16.

The proposed consent decree may be examined at the Office of the United States Attorney, 615 Chestnut Street, Suite 1250, Philadelphia, PA 19106, and at U.S. EPA Region III, 1650 Arch Street, Philadelphia, PA 19103. During the public comment period, the proposed consent decree may also be examined on the following Department of Justice Web site: http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.25 (25 cents per page reproduction cost). Checks should be made payable to the U.S. Treasury.

Robert Brook,
Assistant Chief, Environmental Enforcement Section, Environment and Natural Resources Division.

[FR Doc. 07-3493 Filed 7-18-07; 8:45 am]

BILLING CODE 4410-15-M